FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Agape Shipping, Inc., 9040 Telstar Ave. Suite 123, El Monte, CA 91731. Officer: Esther Lu Haio Lee, President(Qualifying Individual).

Gallop Fargo Logistics, Inc. dba Logistics, Worldwide (USA) Inc., 18601 S. Susana Road, A, East Rancho Dominguez, CA 90221. Officer: George H. Liu, CEO (Qualifying Individual).

CT Telecom, Inc. dba JK Logis, 154-09 146th Ave., 3rd FL, Jamaica, NY 11434. Officers: Kyu Seok Lim, Director(Qualifying Individual), Gyu Wan Kim, President.

Global Cargo Express, Inc., 114 N. New Ave., Suite E, Monterey Park, CA 91755. Officer: Yufu Xing, President (Qualifying Individual).

Non-Vessel Operating Common Carrier and Ocean Freight Forwarder Transportation Intermediary Applicants

Topstar International Logistics, Inc., 20529 East Walnut Dr. North, B-7, Walnut, CA 91789. Officers: Derrick Saoyee Long, Sen. Director (Qualifying Individual), Ke Xu, President.

SDS Global Logistics, Inc., 62-03 31st Place, Long Island, NY 11101. Officers: Elvia N. Bacares, Vice President (Qualifying Individual), Tony Ricioppo, President.

Front Cargo Freight Services, Inc., 4729 NW 72 Ave., Miami, FL 33166. Officer: Martha K. Calderon, President (Qualifying Individual).

Ocean Freight Forwarder—Ocean Transportation Intermediary Applicants

Quisqueya Cargo Express, 421 W Tilghman St., Allentown, PA 18102.Officer: Fraiser A. Polanco, Owner (Qualifying Individual).

Southern Cross Shipping Co., Inc., 4524 Senac Drive, Metairie, LA 70003. Officers: Brian Leslie Scheele, President(Qualifying Individual), Michael L. Saltzman, Vice President.

Dated: December 14, 2007.
Karen V. Gregory,
Assistant Secretary.

[FR Doc. E7-24596 Filed 12-18-07; 8:45 am]

BILLING CODE 6730-01-P